DEPARTMENT OF THE INTERIOR

Fish and Wildlife Service

Notice of Availability of Final Comprehensive Conservation Plan and Environmental Assessment for Illinois River National Wildlife and Fish Refuge (NWFR), Havana, IL

AGENCY: Fish and Wildlife Service, Interior.

ACTION: Notice of availability.

SUMMARY: The U.S. Fish and Wildlife Service (Service) announces that the final Comprehensive Conservation Plan (CCP) and Environmental Assessment (EA) are available for the Illinois River NWFR, Havana, Illinois. The CCP and EA were prepared pursuant to the National Wildlife Refuge System Administration Act of 1966, as amended by the National Wildlife Refuge System Improvement Act of 1997, and the National Environmental Policy Act of 1969 and describe how the Service intends to manage the refuge over the next 15 years.

ADDRESSES: Copies of the final CCP and EA are available on compact diskette or hard copy; you may obtain a copy by writing to: Illinois River National Wildlife and Fish Refuge Complex, 19031 East County Road 2105 North, Havana, Illinois 62644. You may also access or download copies at the following Web site address: http://midwest.fws.gov/planning/IllinoisRiver/index.html.

FOR FURTHER INFORMATION CONTACT: Ross Adams at (309) 535-2290.

SUPPLEMENTARY INFORMATION: The National Wildlife Refuge System Administration Act of 1966, as amended by the National Wildlife Refuge System Improvement Act of 1997 (16 U.S.C. 668dd-668ee et seq.), requires a CCP. The purpose in developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

The Illinois River NWFR Complex includes three national wildlife refuges in Illinois: Chautauqua NWR in Mason and Marshal Counties; Meredosia NWR in Cass and Morgan Counties; and Emiquon NWR in Fulton County. The planning process began in 1998.

Three management alternatives were considered. Alternative 3, Refuge Resource Area Focus, is the selected alternative. This alternative would increase conservation efforts in the Illinois River Focus Areas and enhance, protect and restore fish and wildlife habitat within the boundaries of the Illinois River Refuges. There will be no expansion of existing authorized boundaries. We propose to complete land acquisition within the currently approved boundaries of Emiquon NWR and Meredosia NWR on a willing-seller basis as funding allows. We also propose to use voluntary partnerships to conserve grassland, savanna, and native forests within five focus areas. The Chatauqua NWR auto-tour route will be expanded. Hunting will be expanded by allowing big game hunting on Liverpool Lake and Meredosia Island. The east side of Lake Chautauqua will be open to bank fishing year-round, and two accessible bank fishing facilities will be provided on the Chautauqua NWR Upper Pool and Meredosia NWR. Facility improvements proposed include restroom facilities at the headquarters that will accommodate larger groups, converting the headquarters maintenance shop to a visitor contact station, and developing interpretive signage for the auto tour.

Dated: May 27, 2004.
Charles M. Wooley,
Acting Regional Director, U.S. Fish and Wildlife Service, Ft. Snelling, Minnesota.

[FR Doc. 04-21373 Filed 9-22-04; 8:45 am]

BILLING CODE 4310-55-P